DEPARTMENT OF ENERGY

Federal Energy Regulatory Commission

Combined Notice of Filings #1

Take notice that the Commission received the following electric rate filings:

Docket Numbers: ER10-1862-032; ER10-1863-009; ER10-1893-032; ER10-1934-032; ER10-1938-033; ER10-1942-030; ER10-2042-038; ER10-2985-036; ER10-3049-037; ER10-3051-037; ER11-4369-017; ER16-2218-017; ER17-696-018.

Applicants: Calpine Energy Services, L.P., Calpine Construction Finance Company, LP, Calpine Energy Solutions, LLC, Calpine PowerAmerica—CA, LLC, CES Marketing IX, LLC, CES Marketing X, LLC, Champion Energy, LLC, Champion Energy Marketing LLC, Champion Energy Services, LLC, North American Power and Gas, LLC, North American Power Business, LLC, Pine Bluff Energy, LLC, Power Contract Financing, L.L.C.

Description: Triennial Market Power Analysis for Central Region of Power Contract Financing, L.L.C., et al.

Filed Date: 6/30/21.

Accession Number: 20210630-5373.

Comments Due: 5 p.m. ET 8/30/21.

Docket Numbers: ER10-2178-037; ER10-2192-037; ER11-2009-026; ER11-2011-026; ER11-3989-022; ER12-2201-017; ER12-2311-017; ER13-1536-021; ER14-2144-009; ER20-2596-001.

Applicants: Beebe 1B Renewable Energy, LLC, Beebe Renewable Energy, LLC, Constellation Energy Commodities Group Maine, LLC, Constellation NewEnergy, Inc., Exelon Generation Company, LLC, Exelon Generation Supply, LLC, Harvest II Windfarm, LLC, Harvest WindFarm, LLC, Michigan Wind 1, LLC, Michigan Wind 2, LLC.

Description: Triennial Market Power Analysis for Central Region of Constellation NewEnergy, Inc., et al.

Filed Date: 6/30/21.

Accession Number: 20210630-5372.

Comments Due: 5 p.m. ET 8/30/21.

Docket Numbers: ER10-2407-007; ER10-2424-007; ER10-2425-009; ER13-1816-014;ER17-1316-005; ER18-1186-004; ER19-1280-001; ER19-2626-002; ER21-714-002.

Applicants: Broadlands Wind Farm LLC, Indiana Crossroads Wind Farm LLC, Lost Lakes Wind Farm LLC, Pioneer Prairie Wind Farm I, LLC, Quilt Block Wind Farm LLC, Rail Splitter Wind Farm, LLC, Rosewater Wind Farm LLC, Sustaining Power Solutions LLC, Turtle Creek Wind Farm LLC.

Description: Triennial Market Power Analysis for Central Region and Notice of Non-Material Change in Status of Lost Lakes Wind Farm LLC, et al.

Filed Date: 6/30/21.

Accession Number: 20210630-5371.

Comments Due: 5 p.m. ET 8/30/21.

Docket Numbers: ER14-1818-023; ER16-701-006; ER21-1372-002; ER21-1374-002; ER21-1377-001.

Applicants: Boston Energy Trading and Marketing LLC, Diamond Retail Energy, LLC, Diamond Energy East, LLC, Diamond Energy NY, LLC, CPV Valley, LLC.

Description: Notice of Non-Material Change in Status of Boston Energy Trading and Marketing LLC, et al.

Filed Date: 7/6/21.

Accession Number: 20210706-5117.

Comments Due: 5 p.m. ET 7/27/21.

Docket Numbers: ER16-1946-001; ER16-1947-001; ER16-1948-001.

Applicants: Atlantic Energy LLC, Atlantic Energy MD, LLC, Atlantic Energy MA LLC.

Description: Notice of Non-Material Change in Status of Atlantic Energy LLC.

Filed Date: 7/7/21.

Accession Number: 20210707-5093.

Comments Due: 5 p.m. ET 7/28/21.

Docket Numbers: ER18-1960-004

Applicants: Tenaska Pennsylvania Partners, LLC.

Description: Notice of Change in Status of Tenaska Pennsylvania Partners, LLC.

Filed Date: 7/6/21.

Accession Number: 20210706-5161.

Comments Due: 5 p.m. ET 7/27/21.

Docket Numbers: ER21-1217-002; ER21-1218-002.

Applicants: Iris Solar, LLC, St. James Solar, LLC.

Description: Notice of Change in Status of Iris Solar, LLC, et al.

Filed Date: 7/6/21.

Accession Number: 20210706-5160.

Comments Due: 5 p.m. ET 7/27/21.

Docket Numbers: ER21-1934-001.

Applicants: Northern States Power Company, a Minnesota corporation.

Description: Tariff Amendment: 2021-07-07 CAPX2020-Fargo OMA-Request for Deferral Action-307-0.1.1 to be effective 12/31/9998.

Filed Date: 7/7/21.

Accession Number: 20210707-5062.

Comments Due: 5 p.m. ET 7/28/21.

Docket Numbers: ER21-2012-001.

Applicants: Southwest Power Pool, Inc.

Description: Tariff Amendment: 607R40 Evergy Kansas Central, Inc. NITSA NOA to be effective 5/1/2021.

Filed Date: 7/7/21.

Accession Number: 20210707-5029.

Comments Due: 5 p.m. ET 7/28/21.

Docket Numbers: ER21-2358-000.

Applicants: ITC Midwest LLC.

Description: Tariff Cancellation: Filing of Cancellation to Comply with ER11-4486 to be effective 9/5/2021.

Filed Date: 7/6/21.

Accession Number: 20210706-5105.

Comments Due: 5 p.m. ET 7/27/21.

Docket Numbers: ER21-2359-000.

Applicants: ITC Midwest LLC.

Description: § 205(d) Rate Filing: Filing of RS 79 to Comply with ER11-4486 to be effective 9/5/2021.

Filed Date: 7/6/21.

Accession Number: 20210706-5115.

Comments Due: 5 p.m. ET 7/27/21.

Docket Numbers: ER21-2360-000.

Applicants: Southwest Power Pool, Inc.

Description: § 205(d) Rate Filing: 3720 Thunderhead Wind Energy/Evergy KS CentralMeterAgent Cnl to be effective 7/1/2021.

Filed Date: 7/7/21.

Accession Number: 20210707-5010.

Comments Due: 5 p.m. ET 7/28/21.

Docket Numbers: ER21-2361-000.

Applicants: PJM Interconnection, L.L.C.

Description: § 205(d) Rate Filing: Amendment to ISA, Service Agreement No. 5859; Queue No. AC1-078 to be effective 11/30/2020.

Filed Date: 7/7/21.

Accession Number: 20210707-5021.

Comments Due: 5 p.m. ET 7/28/21.

Docket Numbers: ER21-2362-000.

Applicants: Red Cloud Wind LLC.

Description: § 205(d) Rate Filing: Co-Tenancy, Common Facilities and Easement Agreement to be effective 7/8/2021.

Filed Date: 7/7/21.

Accession Number: 20210707-5040.

Comments Due: 5 p.m. ET 7/28/21.

Docket Numbers: ER21-2363-000.

Applicants: Alabama Power Company.

Description: § 205(d) Rate Filing: Photosol US Renewable Energy (Mobile River Solar 1) LGIA Filing to be effective 6/22/2021.

Filed Date: 7/7/21.

Accession Number: 20210707-5043.

Comments Due: 5 p.m. ET 7/28/21.

Docket Numbers: ER21-2364-000.

Applicants: Albemarle Beach Solar, LLC.

Description: Baseline eTariff Filing: Reactive Power Compensation Filing to be effective 7/8/2021.

Filed Date: 7/7/21.

Accession Number: 20210707-5044.

Comments Due: 5 p.m. ET 7/28/21.

Docket Numbers: ER21-2365-000.

Applicants: Midcontinent Independent System Operator, Inc.

Description: § 205(d) Rate Filing: 2021-07-07_Att FF Triennial MVP Review Filing to be effective 9/6/2021.

Filed Date: 7/7/21.

Accession Number: 20210707-5048.

Comments Due: 5 p.m. ET 7/28/21.

Docket Numbers: ER21-2366-000.

Applicants: Mobile Energy, LLC.

Description: § 205(d) Rate Filing: Normal filing 2021 to be effective 7/8/2021.

Filed Date: 7/7/21.

Accession Number: 20210707-5061.

Comments Due: 5 p.m. ET 7/28/21.

Docket Numbers: ER21-2367-000.

Applicants: Lanyard Power Holdings, LLC.

Description: § 205(d) Rate Filing: Reactive Service Filing Re Transfer of Units to Chalk Point Power to be effective 6/29/2021.

Filed Date: 7/7/21.

Accession Number: 20210707-5080.

Comments Due: 5 p.m. ET 7/28/21.

Docket Numbers: ER21-2368-000.

Applicants: Chalk Point Power, LLC.

Description: § 205(d) Rate Filing: Chalk Point Power Proposed Reactive Supply Service Tariff to be effective 6/29/2021.

Filed Date: 7/7/21.

Accession Number: 20210707-5090.

Comments Due: 5 p.m. ET 7/28/21.

Docket Numbers: ER21-2369-000.

Applicants: Dickerson Power, LLC.

Description: § 205(d) Rate Filing: Dickerson Power Reactive Tariff With Effective Date to be effective 6/29/2021.

Filed Date: 7/7/21.

Accession Number: 20210707-5094.

Comments Due: 5 p.m. ET 7/28/21.

Docket Numbers: ER21-2370-000.

Applicants: Brookfield Renewable Trading and Marketing LP.

Description: Compliance filing: Justification of Spot Market Sale Above Soft Cap to be effective N/A.

Filed Date: 7/7/21.

Accession Number: 20210707-5103.

Comments Due: 5 p.m. ET 7/28/21.

Docket Numbers: ER21-2371-000.

Applicants: Lanyard Power Holdings, LLC.

Description: Tariff Cancellation: Cancellation of Effective Dickerson Reactive Tariff effective June 29, 2021 to be effective 6/29/2021.

Filed Date: 7/7/21.

Accession Number: 20210707-5105.

Comments Due: 5 p.m. ET 7/28/21.

Docket Numbers: ER21-2372-000.

Applicants: Ohio Power Company.

Description: American Electric Power/Ohio Power Co. submits a Notice of Termination of an Operation and Maintenance Agreement designated as Supplement No. 32 to Rate Schedule FERC No. 74.

Filed Date: 6/30/21.

Accession Number: 20210630-5376.

Comments Due: 5 p.m. ET 7/21/21.

Docket Numbers: ER21-2373-000.

Applicants: DTE Energy Trading, Inc.

Description: Compliance filing: DTE Eenrgy Trading Cost Justification Filing to be effective N/A.

Filed Date: 7/7/21.

Accession Number: 20210707-5112.

Comments Due: 5 p.m. ET 7/28/21.

Take notice that the Commission received the following public utility holding company filings:

Docket Numbers: PH21-11-000.

Applicants: Axium Infrastructure Inc.

Description: Axium Infrastructure, Inc. submits FERC-65B Notice of Change in Fact to Waiver Notification.

Filed Date: 7/6/21.

Accession Number: 20210706-5159.

Comments Due: 5 p.m. ET 7/27/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 7, 2021.
Debbie-Anne A. Reese,
Deputy Secretary.

[FR Doc. 2021-14908 Filed 7-13-21; 8:45 am]

BILLING CODE 6717-01-P